DEPARTMENT OF THE TREASURY

Internal Revenue Service

Proposed Collection; Comment Request for Revenue Procedure 2004-46; Correction

AGENCY: Internal Revenue Service (IRS), Treasury.

ACTION: Correction to notice and request for comments.

SUMMARY: This document contains corrections to a notice and request for comments (Revenue Procedure 2004-46) that was published in the Federal Register on Tuesday, August 7, 2007 (72 FR 44227) inviting the general public and other Federal agencies to take this opportunity to comment on proposed and/or continuing information collections.

FOR FURTHER INFORMATION CONTACT: Allan Hopkins at (202) 622-6665 (not a toll-free number), or through the internet at Allan.M.Hopkins@irs.gov.

SUPPLEMENTARY INFORMATION:

Background

The notice and request for comments that is the subject of the correction is required by the Paperwork Reduction Act of 1995, Public Law 104-13 (44 U.S.C. 3506(c)(2)(A)).

Need for Correction

As published, the comment request for Revenue Procedure 2004-46 contains errors that may prove to be misleading and are in need of clarification.

Correction of Publication

Accordingly, the publication of the comment request for Revenue Procedure 2004-46, which was the subject of FR Doc. E7-15268, is corrected as follows:

1. On page 44227, column 1, in the preamble, under the caption “ Summary:”, second line from bottom of the paragraph, the language “Revenue Procedure 2004-45, Relief” is corrected to read “Revenue Procedure 2004-46, Relief”.

2. On page 44227, column 1, in the preamble, under the caption “Supplementary Information:”, fourth line, the language “Procedure 2004-45.” is corrected to read “Procedure 2004-46.”.

3. On page 44227, column 1, in the preamble, under the caption “Supplementary Information:”, fifth line, the language “Abstract: Revenue Procedure 2004-45” is corrected to read “Abstract: Revenue Procedure 2004-46”.

LaNita Van Dyke,
Chief, Publications and Regulations Branch, Legal Processing Division, Associate Chief Counsel (Procedure and Administration).

[FR Doc. E7-16372 Filed 8-20-07; 8:45 am]

BILLING CODE 4830-01-P